COMMITTEE FOR PURCHASE FROM PEOPLE WHO ARE BLIND OR SEVERELY DISABLED

Procurement List; Additions

AGENCY: Committee for Purchase from People Who Are Blind or Severely Disabled.

ACTION: Additions to the Procurement List.

SUMMARY: This action adds to the Procurement List products and services to be furnished by nonprofit agencies employing persons who are blind or have other severe disabilities.

EFFECTIVE DATE: September 30, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: On June 22, July 6 and July 13, 2007 the Committee for Purchase From People Who Are Blind or Severely Disabled published notice (72 FR 34433-34434; 36951; 38561) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

GOJO/Skilcraft

NSN: 8520-00-NIB-0084—GOJO/Skilcraft 1250 ml Foam Soap Dispensers, BX 6

NSN: 8520-00-NIB-0086—GOJO/Skilcraft 1250 ml Green Seal Foam Handwash Refill

NSN: 8520-00-NIB-0088—GOJO/Skilcraft 1250 ml Foam Handwash Refill

NSN: 8520-00-NIB-0100—GOJO/Skilcraft 1250 ml Foam Soap Dispenser Kit

Coverage: A-List—100% for the total Government requirement as specified by the General Services Administration

Purell/Skilcraft

NSN: 8520-00-NIB-0099—Purell/Skilcraft 1200 ml Instant Hand Wash Sanitizer Refill

NSN: 8520-00-NIB-0101—Purell/Skilcraft 1250 ml Foam Soap Dispenser

NSN: 8520-00-NIB-0102—Purell/Skilcraft 1250 ml Foam Soap Dispensers, BX 6

Coverage: A-List—100% for the total Government requirement as specified by the General Services Administration

NPA: Travis Association for the Blind, Austin, TX

Contracting Activity: General Services Administration, Southwest Supply Center, Fort Worth, TX

Shredder Bag

NSN: 8105-00-NIB-1263—44″ × 39″ (pk of 50)

NSN: 8105-00-NIB-1264—24″ × 26″ (pk of 100)

NSN: 8105-00-NIB-1265—29″ × 30″ (pk of 100)

NSN: 8105-00-NIB-1266—31″ × 36″ (pk of 50)

NSN: 8105-00-NIB-1267—39″ × 51″ (pk of 50)

NSN: 8105-00-NIB-1268—36″ × 39″ (pk of 50)

NSN: 8105-00-NIB-1269—49″ × 51″ (pk of 50)

Coverage: A-List—for the total Government requirements as specified by the General Services Administration.

NPA: Envision, Inc., Wichita, KS

Contracting Activity: General Services Administration, Office Supplies & Paper Products Acquisition Ctr, New York, NY

Services

Service Type/Location: Custodial Services, U.S. Border Patrol, ADP Branch—Blaine Sector Training, 1573 H Street, Blaine, WA.

Service Type/Location: Custodial Services, U.S. Border Patrol, Bellingham Station, 2745 McLeod Road, Bellingham, WA.

Service Type/Location: Custodial Services, U.S. Border Patrol, Blaine Sector Headquarters, 2410 Nature's Path Way, Blaine, WA.

Service Type/Location: Custodial Services, U.S. Border Patrol, Lynden Station, 8334 Guide Meridian, Bellingham, WA.

NPA: Lake Whatcom Residential and Treatment Center, Bellingham, WA.

Contracting Activity: Department of Homeland Security, Bureau of Immigration and Customs Enforcement, Laguna Niguel, CA.

Service Type/Location: Mailroom Operations, Internal Revenue Service Mailroom, 10 Metrotech Center, Brooklyn, NY.

Service Type/Location: Mailroom Operations, Internal Revenue Service Mailroom, 290 Broadway, Foley Square, New York, NY.

NPA: Fedcap Rehabilitation Services, Inc., New York, NY.

Service Type/Location: Mailroom Operations, Internal Revenue Service Mailroom, 1000 Liberty Ave, Pittsburgh, PA.

NPA: Blind and Vision Rehabilitation Services of Pittsburgh, Pittsburgh, PA.

Service Type/Location: Mailroom Operations, Internal Revenue Service Mailroom, 107 Charles Lindberg Blvd., Garden City, NY.

Service Type/Location: Mailroom Operations, Internal Revenue Service Mailroom, 110 West 44th Street (Midtown), New York, NY.

NPA: The Corporate Source, Inc., New York, NY.

Service Type/Location: Mailroom Operations, Internal Revenue Service Mailroom, 51 SW First Avenue, Miami, FL.

NPA: Abilities, Inc. of Florida, Clearwater, FL.

Service Type/Location: Mailroom Operations, Internal Revenue Service Mailroom, 110 City Parkway, Las Vegas, NV.

NPA: Blind Center of Nevada, Inc., Las Vegas, NV.

Service Type/Location: Mailroom Operations, Internal Revenue Service Mailroom, 1240 East Ninth Street, Cleveland, OH.

NPA: VGS, Inc., Cleveland, OH.

Service Type/Location: Mailroom Operations, Internal Revenue Service Mailroom, 2001 Butterfield Road, Downers Gove, IL.

NPA: Jewish Vocational Service and Employment Center, Chicago, IL.

Service Type/Location: Mailroom Operations, Internal Revenue Service Mailroom, 225 West Broadway, Glendale, CA.

NPA: Pacific Coast Community Services, Richmond, CA.

Service Type/Location: Mailroom Operations, Internal Revenue Service Mailroom, 2888 Woodcock Blvd, Atlanta, GA.

NPA: Bobby Dodd Institute, Inc., Atlanta, GA.

Service Type/Location: Mailroom Operations, Internal Revenue Service Mailroom, 9350 East Flair Drive, El Monte, CA.

NPA: Lincoln Training Center and Rehabilitation Workshop, South El Monte, CA.

NPA: ServiceSource, Inc., Alexandria, VA (PRIME CONTRACTOR),

Contracting Activity: U.S. Department of Treasury, Internal Revenue Service Headquarters, Oxon Hill, MD.

This action does not affect current contracts awarded prior to the effective date of this addition or options that may be exercised under those contracts.

Kimberly M. Zeich,
Director, Program Operations.

[FR Doc. E7-17322 Filed 8-30-07; 8:45 am]

BILLING CODE 6353-01-P